DEPARTMENT OF HEALTH AND HUMAN SERVICES

Food and Drug Administration

Industry Exchange Workshop on Food and Drug Administration Clinical Trial Requirements; Public Workshop; Correction

AGENCY: Food and Drug Administration, HHS.

ACTION: Notice of public workshop; correction.

SUMMARY: The Food and Drug Administration is correcting a notice that appeared in the Federal Register of March 7, 2006. The document announced a workshop on FDA clinical trial statutory and regulatory requirements. The document was published with an incorrect Internet address. This document corrects that error.

FOR FURTHER INFORMATION CONTACT: Joyce A. Strong, Office of Policy (HF-27), Food and Drug Administration, 5600 Fishers Lane, Rockville, MD 20857, 301-827-7010.

SUPPLEMENTARY INFORMATION: In FR Doc. E6-3229, appearing on page 11434 in the Federal Register of Tuesday, March 7, 2006, the following correction is made:

1. On page 11434, in the second column, under the “Registration” caption, the Internet address is corrected to read http://www.socra.org/html/FDA_Conference.htm.

Dated: April 18, 2006.
Jeffrey Shuren,
Assistant Commissioner for Policy.

[FR Doc. E6-6119 Filed 4-24-06; 8:45 am]

BILLING CODE 4160-01-S